NATIONAL SCIENCE FOUNDATION

Advisory Panel for Economics, Decision, and Management Sciences; Notice of Meeting

In accordance with the Federal Advisory Committee Act (Pub. L. 92-463, as amended), the National Science Foundation (NSF) announces the following meetings of the Committee of Visitors for the Advisory Panel for Economics, Decision and Management Sciences (1760):

1. Date/Time: March 27, 28 and 29, 2000; 8:30 a.m.-5:00 p.m.

Place: National Science Foundation, 4201 Wilson Boulevard, Room 970, Arlington, VA.

Contact Person: Dr. Daniel Newlon, Program Director for Economics, National Science Foundation, 4201 Wilson Boulevard, Arlington, VA 22230. Telephone: (703) 306-1753.

Agenda: To review and evaluate Economics proposals as part of the selection process for awards.

2. Date/Time: March 27, 28 and 29, 2000; 8:30 a.m.-5:00 p.m.

Place: National Science Foundation, 4201 Wilson Boulevard, Room 970, Arlington, VA.

Contact Person: Dr. Hal Arkes, Program Director for Decision, Risk and Management Sciences (CRMS), National Science Foundation, 4201 Wilson Boulevard, Arlington, VA 22230. Telephone: (703) 306-1757.

Agenda: To review and evaluate DRMS proposals as part of the selection process for awards.

3. Date/Time: March 27, 28 and 29, 2000; 8:30 a.m.-5:00 p.m.

Place: National Science Foundation, 4201 Wilson Boulevard, Room 970, Arlington, VA.

Contact Person: Dr. Mariann (Sam) Jelinek, Program Director for Innovation and Organizational Change (IOC), National Science Foundation, 4201 Wilson Boulevard, Suite 995, Arlington, VA 22230. Telephone: (703) 306-1757.

Agenda: To review and evaluate IOC proposals as part of the selection process for awards.

Type of Meetings: Closed.

Purpose of Meetings&prime: To provide advice and recommendations concerning support for research proposals submitted to NSF for financial support.

Reason For Closing: The proposals being reviewed include information of a proprietary or confidential nature, including technical information; financial data, such as salaries; and personal information concerning individuals associated with the proposals. These matters are exempt under 5 U.S.C. 552b(c)(4) and (6) of the Government in the Sunshine Act.

Dated: February 10, 2000.
Karen J. York,
Committee Management Officer.

[FR Doc. 00-3541 Filed 2-14-00; 8:45 am]

BILLING CODE 7555-01-M